NATIONAL AERONAUTICS AND SPACE ADMINISTRATION

[Notice: 23-016]

NASA Astrophysics Advisory Committee; Meeting

AGENCY: National Aeronautics and Space Administration.

ACTION: Notice of meeting.

SUMMARY: In accordance with the Federal Advisory Committee Act, the National Aeronautics and Space Administration (NASA) announces a meeting of the Astrophysics Advisory Committee. This Committee reports to the Director, Astrophysics Division, Science Mission Directorate, NASA Headquarters. The meeting will be held for the purpose of soliciting, from the scientific community and other persons, scientific and technical information relevant to program planning.

DATES: Wednesday, March 29, 2023, 10 a.m.-5 p.m.; and Thursday, March 30, 2023, 9 a.m.-4 p.m., Eastern Time.

ADDRESSES: Due to current COVID-19 issues affecting NASA Headquarters occupancy, public attendance will be virtual only. See dial-in and Webex information below under SUPPLEMENTARY INFORMATION.

FOR FURTHER INFORMATION CONTACT: Ms. KarShelia Kinard, Science Mission Directorate, NASA Headquarters, Washington, DC 20546, (202) 358-2355 or karshelia.kinard@nasa.gov.

SUPPLEMENTARY INFORMATION: As noted above, this meeting is virtual and will take place telephonically and via Webex. Any interested person must use a touch-tone phone to participate in this meeting. The Webex connectivity information for each day is provided below. For audio, when joining the Webex event, you may use your computer or provide your phone number to receive a call back, otherwise, call the U.S. toll conference number listed for each day. For Wednesday, March 29, 2023, the WebEx information for attendees is: https://nasaenterprise.webex.com/nasaenterprise/j.php?MTID=m0c0cc9b8f3d2df57341bdccc72049cbc. The meeting number is: 2762 813 0665 and the meeting password is: APACspr23#. To join by telephone the numbers are: 1-929-251-9612 or 1-415-527-5035 (Access Code: 2762 813 0665).

For Thursday, March 30, 2023, the WebEx information for attendees is: https://nasaenterprise.webex.com/nasaenterprise/j.php?MTID=mdded616baf26577815d4758944d41d31. The meeting number is: 2764 503 8149 and the meeting password is: APACspr23$. To join by telephone the numbers are 1-929-251-9612 or 1-415-527-5035 (Access Code: 2764 503 8149).

The agenda for the meeting includes the following topics:

—Astrophysics Division Update

—Updates on Specific Astrophysics Missions

—Discussion of Reports from the Program Analysis Groups

The Agenda and Program Analysis Group presentations will be posted on the Astrophysics Advisory Committee web page: https://science.nasa.gov/researchers/nac/science-advisory-committees/apac.

The public may submit and upvote comments/questions ahead of the meeting through the website, https://nasa.cnf.io/sessions/k5s2/#!/dashboard, that will be opened for input on March 15, 2023.

It is imperative that the meeting be held on these dates to accommodate the scheduling priorities of the key participants.

Patricia Rausch,
Advisory Committee Management Officer, National Aeronautics and Space Administration.

[FR Doc. 2023-04782 Filed 3-8-23; 8:45 am]

BILLING CODE 7510-13-P